NUCLEAR REGULATORY COMMISSION

Notice of Electronic Distribution Initiative Pilot Program

The Office of Nuclear Reactor Regulation (NRR) at the U.S. Nuclear Regulatory Commission (NRC) is implementing a pilot program to test the feasibility of its electronic distribution initiative (EDI). The EDI seeks to provide a more effective and efficient method of communication with internal and external stakeholders. The EDI is an alternative to paper copy (hardcopy) distribution of correspondence and is replacing hardcopy distribution with distribution via electronic mail (e-mail).

Currently, the NRR staff provides paper copies for reactor licensing activities to the addressee and each entity on the carbon copy list, otherwise known as the Service List. In the future, the NRR staff intends to provide those on the Service List via e-mail an electronic link to licensing documents which are available publicly in the NRC's Agencywide Documents Access and Management System. The addressees will continue to receive the official NRC hardcopy. The distribution of documents containing safeguards, proprietary or security-related information, or other information that is withheld from public disclosure will not be affected by this initiative at the present time.

The EDI pilot program will begin July 1 and end September 30, 2007. Exelon Generation Company, LLC (Exelon), one of the NRC's licensees, has agreed to participate in this pilot program. The Exelon plants included are: Byron Station, Units 1 and 2; Braidwood Station, Units 1 and 2; Clinton Power Station, Unit 1; Dresden Nuclear Power Station, Units 2 and 3; LaSalle County Station, Units 1 and 2; and Quad Cities Nuclear Power Station, Units 1 and 2.

The NRR staff plan to expand the EDI to include all the operating reactor licensees, with the goal for implementation to begin in January 2008.

Dated at Rockville, Maryland, this 21st day of June 2007.
For the Nuclear Regulatory Commission.
Russell A. Gibbs,
Chief, Plant Licensing Branch III-2, Division of Operating Reactor Licensing. Office of Nuclear Reactor Regulation.

[FR Doc. E7-12563 Filed 6-27-07; 8:45 am]

BILLING CODE 7590-01-P